DEPARTMENT OF THE INTERIOR

Bureau of Land Management

[WY-010-1430-ES; WYW-30544-02]

Notice of Realty Action: Recreation and Public Purposes (R&PP) Act Classification; Conveyance of Public Lands in Washakie County, Worland Field Office, WY

AGENCY: Bureau of Land Management, Interior.

ACTION: Classification of public land for conveyance pursuant to the Recreation and Public Purposes Act.

SUMMARY: The following public land in Washakie County, Wyoming has been examined and found suitable for classification for conveyance to the Washakie County Solid Waste Disposal District #1 under the provisions of the Recreation and Public Purposes Act of June 14, 1926, as amended (43 U.S.C. 869 et seq.), for the purposes of operating a sanitary landfill. These lands are hereby classified as suitable for conveyance in accordance with section 7 of the Taylor Grazing Act, 43 U.S.C. 315f, and Executive Order No. 6910:

Sixth Principal Meridian

T. 47 N. R. 93 W. Section 23; N½NW¼, SE¼ NW¼, NE¼SW¼; containing 160 acres.

SUPPLEMENTARY INFORMATION: The lands are not needed for Federal purposes. Conveyance is consistent with current BLM land use planning and would be in the public interest.

The patent, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. Those rights for powerlines granted to Pacific Power and Light, under rights-of-way WYW-044926 and WYW-142403.

5. Those rights for a road granted to Washakie County, under right-of-way WYW-94080.

6. Those rights for a road granted to Washakie County Solid Waste District #1, under right-of-way WYW-148794.

Detailed information concerning this action is available for review at the office of the Bureau of Land Management, Worland Field Office, 101 South 23rd, (P.O. Box 119) Worland, Wyoming 82401.

The subject lands were previously classified and segregated for the purposes of a lease authorizing a sanitary landfill pursuant to the Recreation and Public Purposes Act. Further segregation will not be required. For a period of 45 days from the date of publication of this notice in the Federal Register, interested persons may submit comments regarding the proposed conveyance or classification of the lands to the Field Manager, Worland District Office, P.O. Box 119, Worland, WY 82401-0119 or by e-mail to worland_wymail@blm.gov. Comments, including names and street addresses of respondents will be available for public review at the Worland Field Office during regular business hours (7:45 a.m. to 4:30 p.m.) Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Classification Comments: Interested parties may submit comments involving the suitability of the land for a sanitary landfill. Comments on the classification are restricted to whether the land is physically suited for the proposal, whether the use will maximize the future use or uses of the land, whether the use is consistent with local planning and zoning, or if the use is consistent with State and Federal programs.

Application Comments: Interested parties may submit comments regarding the specific uses proposed in the application and plan of development, whether the BLM followed proper administrative procedures in reaching the decision, or any other factor not directly related to the suitability of the land for a sanitary landfill.

Any adverse comments will be reviewed by the State Director. In the absence of any adverse comments, the classification will become effective 60 days from the date of publication of this notice in the Federal Register.

EFFECTIVE DATE: Written or e-mail comments may be submitted through June 13, 2003.

FOR FURTHER INFORMATION CONTACT: Steve Till, Worland Field Office, P.O. Box 119 [101 South 23rd Street], Worland, Wyoming 82401-0119. (307) 347-5100.

Dated: March 27, 2003.
Darrell Barnes,
Field Manager.

[FR Doc. 03-10441 Filed 4-28-03; 8:45 am]

BILLING CODE 4310-22-P